INTERNATIONAL TRADE COMMISSION

[USITC SE-04-031]

Government in the Sunshine Act Meeting Notice

AGENCY: United States International Trade Commission.

Time and Date: December 10, 2004 at 11 a.m.

Place: Room 101, 500 E Street SW., Washington, DC 20436, Telephone: (202) 205-2000.

Status: Open to the public.

Matters To Be Considered: 1. Agenda for future meetings: none.

2. Minutes.

3. Ratification List.

4. Inv. No. 731-TA-1058 (Final) (Wooden Bedroom Furniture from China)—briefing and vote. (The Commission is currently scheduled to transmit its determination and Commissioners' opinions to the Secretary of Commerce on or before December 22, 2004.)

5. Inv. Nos. 701-TA-437 and 731-TA-1060 and 1061 (Final) (Carbazole Violet Pigment 23 from China and India)—briefing and vote. (The Commission is currently scheduled to transmit its determination to the Secretary of Commerce on or before December 22, 2004.)

6. Outstanding action jackets: none.

In accordance with Commission policy, subject matter listed above, not disposed of at the scheduled meeting, may be carried over to the agenda of the following meeting.

By order of the Commission.
Issued: November 15, 2004.
Marilyn R. Abbott,
Secretary to the Commission.

[FR Doc. 04-25800 Filed 11-17-04; 11:44 am]

BILLING CODE 7020-02-P